LEGAL SERVICES CORPORATION

Sunshine Act Meetings

DATE AND TIME: The Legal Services Corporation's Board of Directors and its six committees will meet April 14-16, 2013. On Sunday, April 14, the first meeting will commence at 2:30 p.m., Eastern Daylight Time (EDT), with the meeting thereafter commencing promptly upon adjournment of the immediately preceding meeting. On Monday, April 15, the first meeting will commence at 9:00 a.m., EDT, with each meeting thereafter commencing promptly upon adjournment of the immediately preceding meeting. On Tuesday, April 16, the Board meeting will commence at 9:00 a.m., EDT, and will continue until the conclusion of the Board's agenda.

LOCATION: F. William McCalpin Conference Center, Legal Services Corporation, 3333 K Street, NW., Washington DC 20007.

PUBLIC OBSERVATION: Unless otherwise noted herein, the Board and all committee meetings will be open to public observation. Members of the public who are unable to attend in person but wish to listen to the public proceedings may do so by following the telephone call-in directions provided below.

CALL-IN DIRECTIONS FOR OPEN SESSIONS: • Call toll-free number: 1-866-451-4981;

• When prompted, enter the following numeric pass code: 5907707348

• When connected to the call, please immediately “MUTE” your telephone.

Members of the public are asked to keep their telephones muted to eliminate background noises. To avoid disrupting the meeting, please refrain from placing the call on hold if doing so will trigger recorded music or other sound. From time to time, the presiding Chair may solicit comments from the public.

Meeting Schedule
| Time *
Sunday, April 14, 2013
1. Operations & Regulations Committee | 2:30 p.m.
2. Governance & Performance Review Committee
Monday, April 15, 2013
1. Institutional Advancement Committee | 9:00 a.m.
2. Promotion & Provision for the Delivery of Legal Services Committee
3. Audit Committee
4. Finance Committee
Tuesday, April 16, 2013
1. Board of Directors | 9:00 a.m.

STATUS OF MEETING: Open, except as noted below.

Board of Directors—Open, except that, upon a vote of the Board of Directors, a portion of the meeting may be closed to the public to hear briefings by management and LSC's Inspector General, and to consider and act on the General Counsel's report on potential and pending litigation involving LSC.**

* Please note that all times in this notice are in the Eastern Daylight Time.

** Any portion of the closed session solely of briefings does not fall within the Sunshine Act's definitkion of the term “meeting” and, therefore, the requirements of the Sunshine Act do not apply to such portion of the closed session. 5 U.S.C. 552(a)(2) and (b). See also 45 CFR 1622 and 1622.3.

Institutional Advancement Committee—Open, except that, upon a vote of the Board of Directors, the meeting may be closed to the public to discuss prospective funders for LSC's development activities and prospective members for an honorary auxiliary group.

Audit Committee—Open, except that a portion of the meeting may be closed to the public to hear a briefing on insurance coverage.**

A verbatim written transcript will be made of the closed session of the Board and Institutional Advancement Committee meetings. The transcript of any portions of the closed session falling within the relevant provisions of the Government in the Sunshine Act, 5 U.S.C. § 552b(c)(6), (9) and (10), and the corresponding provisions of the Legal Services Corporation's implementing regulations, 45 CFR 1622.5(e), (g) and (h), will not be available for public inspection. A copy of the General Counsel's Certification that, in his opinion, the closing is authorized by law will be available upon request.

Matters To Be Considered:

April 14, 2013

Operations & Regulations Committee

1. Approval of agenda

2. Approval of minutes of the Committee's meeting on January 25, 2013

3. Consider and act on the proposed Request for Information regarding representation of criminal defendants in tribal courts

Kara Ward, Assistant General Counsel

4. Consider and act on the proposed Notice of Rulemaking Workshop regarding potential changes to the private attorney involvement rule in a manner responsive to the recommendations of the Pro Bono Task Force Report

Kara Ward, Assistant General Counsel

5. Consider and act on initiating rulemaking to conform Part 1626 (Restrictions on Assistance to Aliens) with existing statutory authorizations

Kara Ward, Assistant General Counsel

6. Public comment

7. Consider and act on other business

8. Consider and act on adjournment of meeting

Governance & Performance Review Committee

1. Approval of agenda

2. Approval of minutes of the Committee's meeting of January 26, 2013

3. Staff reports on

• Staff report on progress in implementing GAO recommendations

4. Public Welfare Foundation Grant Materials

5. Report on Public Welfare Foundation grant and LSC research agenda

• Jim Sandman, President

6. Report on evaluation of LSC Comptroller

7. Consider and act on other business

8. Public comment

9. Consider and act on motion to adjourn meeting

April 15, 2013

Institutional Advancement Committee

Open Session

1. Approval of agenda

2. Approval of minutes of the Committee's open session meeting of January 26, 2013

3. Discussion of plans for LSC's 40th anniversary celebration

4. Discussion of fundraising objectives

5. Public comment

6. Consider and act on other business

Closed Session

1. Approval of minutes of the Committee's closed session meeting of January 26, 2013

2. Approval of minutes of the Committee's closed session meeting of February 13, 2013

3. Approval of minutes of the Committee's closed session meeting of February 26, 2013

4. Approval of minutes of the Committee's closed session meeting of March 12, 2013

5. Discussion of prospective funders for LSC's development activities

6. Discussion of prospective members of the honorary auxiliary group

7. Consider and act on adjournment of meeting

Promotion & Provision for the Delivery of Legal Services Committee

1. Approval of Agenda

2. Approval of minutes of the Committee's meeting of January 25, 2013

3. Discussion of Committee's evaluations for 2012 and the Committee's goals for 2013

4. Presentation of the District of Columbia Neighborhood Legal Services Program

5. Panel Presentation on using assessments of legal needs of the low income population to set priorities for the work of legal services programs

6. Public comment

7. Consider and act on other business

8. Consider and act on motion to adjourn the meeting

Audit Committee

Open Session

1. Approval of agenda

2. Approval of minutes from the January 26, 2013 meeting

3. Quarterly review of 403(b) plan performance

4. Briefing by Inspector General

• Jeff Schanz, Inspector General

5. Reports on audits and implementation of findings and recommendations made by the OIG and external auditors, and compliance with the restrictions of 45 CFR Part 1612

• Jim Sandman, President

• David Richardson, Treasurer/Comptroller

• Lora Rath, Director, Office of Compliance and Enforcement

6. Discussion regarding future Management process reports

7. Public comment

8. Consider and act on other business

9. Consider and act on motion to adjourn the meeting

Closed Session Briefing

10. Briefing on Insurance Coverage

• David Richardson, Treasurer/Comptroller

Finance Committee

1. Approval of agenda

2. Approval of the minutes from the January 26, 2013 meeting

3. Consider and act on the Consolidated Operating Budget for FY 2013 and recommend Resolution 2013-XXX to the full Board

• David Richardson, Treasurer/Comptroller

4. Presentation on LSC's Financial Report for the five-month period ending February 28, 2013

• David Richardson, Treasurer/Comptroller

5. Report on FY 2013 appropriations

• Carol Bergman, Director, Office of Government Relations and Public Affairs

6. Report on FY 2014 appropriations process

• Carol Bergman, Director, Office of Government Relations and Public Affairs

7. Discussion with Management regarding process and timetable for FY 2015 budget “mark”

8. Public comment

9. Consider and act on other business

10. Consider and act on motion to adjourn the meeting

April 16, 2013

Board of Directors

Open Session

1. Pledge of Allegiance

2. Approval of agenda

3. Approval of minutes of the Board's meeting of January 26, 2013

4. Chairman's Report

5. Members' Reports

6. President's Report

7. Inspector General's Report

8. Consider and act on the report of the Promotion and Provision for the Delivery of Legal Services Committee

9. Consider and act on the report of the Finance Committee

10. Consider and act on the report of the Audit Committee

11. Consider and act on the report of the Operations and Regulations Committee

12. Consider and act on the report of the Governance and Performance Review Committee

13. Consider and act on the report of the Institutional Advancement Committee

14. Consider and act on Resolution 2013-XXX in recognition of distinguished service by Victor M. Fortuno

15. Public comment

16. Consider and act on other business

17. Consider and act on whether to authorize an executive session of the Board to address items listed below, under Closed Session

Closed Session

18. Approval of minutes of the Board's closed session meeting of January 26, 2013

19. Briefing by Management

20. Briefing by the Inspector General

21. Consider and act on General Counsel's report on potential and pending litigation involving LSC

22. Consider and act on motion to adjourn meeting

CONTACT PERSON FOR INFORMATION: Katherine Ward, Executive Assistant to the Vice President & General Counsel, at (202) 295-1628. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the Americans with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: April 5, 2013.
Victor M. Fortuno,
Vice President & General Counsel.

[FR Doc. 2013-08431 Filed 4-8-13; 11:15 am]

BILLING CODE 7050-01-P